NUCLEAR REGULATORY COMMISSION

Regulatory Guide; Issuance, Availability

The Nuclear Regulatory Commission has issued revisions of two guides in its Regulatory Guide Series. This series has been developed to describe and make available to the public such information as methods acceptable to the NRC staff for implementing specific parts of the Commission's regulations, techniques used by the staff in evaluating specific problems or postulated accidents, and data needed by the staff in its review of applications for permits and licenses.

Revision 2 of Regulatory Guide 1.142, “Safety-Related Concrete Structures for Nuclear Power Plants (Other than Reactor Vessels and Containments,” provides guidance on methods acceptable to the NRC staff for complying with the NRC's regulations on the design, evaluation, and quality assurance of safety-related nuclear concrete structures, excluding concrete reactor vessels and concrete containments.

Revision 2 of Regulatory Guide 1.143, “Design Guidance for Radioactive Waste Management Systems, Structures, and Components Installed in Light-Water-Cooled Nuclear Power Plants,” provides guidance on methods acceptable to the NRC staff for complying with the NRC's regulations on the design, construction, installation, and testing the structures, systems, and components of radioactive waste management facilities in light-water-cooled nuclear power plants.

Comments and suggestions in connection with items for inclusion in guides currently being developed or improvements in all published guides are encouraged at any time. Written comments may be submitted to the Rules and Directives Branch, Division of Administrative Services, Office of Administration, U.S. Nuclear Regulatory Commission, Washington, DC 20555. Specific questions on the guides should be directed to Mr. H.L. Graves at (301) 415-5880, email HLG1@NRC.GOV.

Regulatory guides are available for inspection or downloading at the NRC's web site at <WWW.NRC.GOV> under Regulatory Guides and in NRC's Electronic Reading Room (ADAMS System) at the same site. Single copies of regulatory guides may be obtained free of charge by writing the Reproduction and Distribution Services Section, U.S. Nuclear Regulatory Commission, Washington, DC 20555-0001, or by fax to (301) 415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 21st day of November, 2001.
For the Nuclear Regulatory Commission.
Roy P. Zimmerman,
Deputy Director, Office of Nuclear Regulatory Research.

[FR Doc. 01-29968 Filed 12-3-01; 8:45 am]

BILLING CODE 7590-01-P